ENVIRONMENTAL PROTECTION AGENCY

40 CFR Part 52

[EPA-R01-OAR-2017-0158; A-1-FRL-9961-72-Region 1]

Adequacy Status of Motor Vehicle Emissions Budgets for Transportation Conformity Purposes; CT

AGENCY: Environmental Protection Agency.

ACTION: Notice of adequacy.

SUMMARY: The Environmental Protection Agency (EPA) is notifying the public that it has found that the 2017 motor vehicle emission budgets for the Greater Connecticut ozone nonattainment area for the 2008 national ambient air quality standard (NAAQS) for ozone are adequate for transportation conformity purposes. As a result of our finding, Connecticut must use these motor vehicle emissions budgets for future transportation conformity determinations. These budgets were contained in the January 17, 2017 attainment demonstration State Implementation Plan (SIP) for the Greater Connecticut ozone nonattainment area for the 2008 ozone NAAQS.

DATES: This finding is effective June 15, 2017.

FOR FURTHER INFORMATION CONTACT: Ariel Garcia, Air Quality Planning Unit, U.S. Environmental Protection Agency, EPA Region 1 Regional Office, 5 Post Office Square, Suite 100 (mail code: OEP05-2), Boston, MA 02109-3912, telephone number (617) 918-1660, fax number (617) 918-0660, email garcia.ariel@epa.gov.

SUPPLEMENTARY INFORMATION:

Throughout this document whenever “we,” “us,” or “our” is used, we mean EPA.

Today's action is simply an announcement of a finding that we have already made. EPA Region 1 sent a letter to the Connecticut Department of Energy and Environmental Protection (CT DEEP) on March 20, 2017 stating that the 2017 motor vehicle emissions budgets (MVEBs) for the Greater Connecticut nonattainment area for the 2008 ozone NAAQS are adequate. CT DEEP submitted the budgets on January 17, 2017, as part of its attainment demonstration SIP for the Greater Connecticut nonattainment area for the 2008 ozone NAAQS. This submittal was announced on EPA's conformity Web site, and received no comments. (See https://www.epa.gov/state-and-local-transportation/adequacy-review-state-implementation-plan-sip-submissions-conformity. Once there, click on “What SIP submissions are currently under EPA adequacy review?”)

The 2017 MVEBs, in tons per summer day (tpsd), for volatile organic compounds (VOC) and oxides of nitrogen (NOX) for Greater Connecticut, are as follows:

2017 Adequate Motor Vehicle Emissions Budgets Greater Connecticut Area
| VOC (tpsd) | NOX (tpsd)
Year 2017 | 15.9 | 22.2

Transportation conformity is required by section 176(c) of the Clean Air Act. EPA's conformity rule requires that transportation plans, programs, and projects conform to state air quality implementation plans and establishes criteria and procedures for determining whether or not they do. Conformity to a SIP means that transportation activities will not produce new air quality violations, worsen existing violations, or delay timely attainment of the national ambient air quality standards.

The criteria by which we determine whether a SIP's motor vehicle emissions budgets are adequate for transportation conformity purposes are outlined in 40 CFR 93.118(e)(4). We have described our process for determining the adequacy of submitted SIP budgets in our July 1, 2004, conformity final rule preamble starting at 69 FR 40038, and we used the information in these resources while making our adequacy determination. Please note that an adequacy review is separate from EPA's completeness review, and it also should not be used to prejudge EPA's ultimate approval of the SIP. Even if we find a budget adequate, the SIP could later be disapproved.

Connecticut's January 17, 2017 SIP revision also includes 2017 MVEBs for the Connecticut portion of the New York-Northern New Jersey-Long Island, NY-NJ-CT (Southwest Connecticut) nonattainment area for the 2008 ozone NAAQS. However, we are not able to evaluate the budgets for the Southwest Connecticut nonattainment area at this time since Connecticut DEEP has not yet submitted its reasonable further progress and attainment demonstration SIPs for this area. EPA will not take action, nor make an adequacy determination, on MVEBs for the 2008 ozone standard for the Southwest Connecticut nonattainment area, until a SIP revision meeting the requirements for reasonable further progress or an attainment demonstration is submitted for that nonattainment area.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Authority: 42 U.S.C. 7401-7671q.

Dated: April 10, 2017.
Deborah A. Szaro,
Acting Regional Administrator, EPA New England.

[FR Doc. 2017-11222 Filed 5-30-17; 8:45 am]

BILLING CODE 6560-50-P